DEPARTMENT OF COMMERCE

Bureau of Industry and Security

15 CFR Part 744

[Docket No. 240614-0163]

RIN 0694-AJ73

Additions to the Entity List

AGENCY: Bureau of Industry and Security, Department of Commerce.

ACTION: Final rule.

SUMMARY: In this rule, the Bureau of Industry and Security (BIS) amends the Export Administration Regulations (EAR) by adding 3 entries to the Entity List, under the destinations of Russia (2), and the United Kingdom (1). These entities have been determined by the U.S. Government to be acting contrary to the national security or foreign policy interests of the United States.

DATES: This rule is effective June 24, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limits the availability of, most license exceptions for exports, reexports, and transfers (in-country) when a listed entity is a party to the transaction. The license review policy for each listing is identified in the “License Review Policy” column on the Entity List, and the impact on the availability of license exceptions is described in the relevant Federal Register document that added the listing to the Entity List. BIS amends the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add AO Kaspersky Lab and OOO Kaspersky Group, under the destination of Russia, and Kaspersky Labs Limited, under the destination of United Kingdom, to the Entity List. These entities are being added for their cooperation with Russian military and intelligence authorities in support of the Russian government's cyber intelligence objectives. This activity is contrary to U.S. national security and foreign policy interests under § 744.11 of the EAR. A license for these entities will be required for all items subject to the EAR; the licenses will be reviewed under a presumption of denial.

For the reasons described above, this final rule adds the following 3 entities including aliases where appropriate, to the Entity List:

Russia

• AO Kaspersky Lab; and

• OOO Kaspersky Group.

United Kingdom

• Kaspersky Labs Limited.

Savings Clause

For the changes being made in this final rule, shipments of items removed from eligibility for a License Exception or export, reexport, or transfer (in-country) without a license (NLR) as a result of this regulatory action that were en route aboard a carrier to a port of export, reexport, or transfer (in-country), on June 24, 2024, pursuant to actual orders for export, reexport, or transfer (in-country) to or within a foreign destination, may proceed to that destination under the previous eligibility for a License Exception or export, reexport, or transfer (in-country) without a license (NLR) before July 24, 2024. Any such items not actually exported, reexported or transferred (in-country) before midnight, on July 24, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 7, 2023, 88 FR 62439 (September 11, 2023); Notice of November 1, 2023, 88 FR 75475 (November 3, 2023).

2. Supplement no. 4 is amended by:

a. Under RUSSIA, adding, in alphabetical order, entries for “AO Kaspersky Lab;” and “OOO Kaspersky Group;” and

b. Under UNITED KINGDOM, adding an entry in alphabetical order for “Kaspersky Labs Limited.”

The additions read as follows:

Supplement No. 4 to Part 744—Entity List

* * * * *

Country | Entity | License requirement | License review policy | Federal Register citation
* * * * * * *
RUSSIA | * * * * * *
| AO Kaspersky Lab, a.k.a., the following twelve aliases: —Aktsionernoe Obshchestvo Laboratoriya Kasperskogo; —AO Kaspersky Laboratory; —AO Laboratoriya Kasperskogo; —Joint Stock Company Kaspersky Lab; —JSC Kaspersky Lab; —Kaspersky; —Kaspersky Lab CJSC; —Kaspersky Lab ZAO; —Kaspersky Lab; —Kaspersky Laboratory; —Kaspersky Labs; and —Kaspersky's Laboratory. | For all items subject to the EAR (See § 744.11 of the EAR) | Presumption of denial | 89 FR [INSERT FR PAGE NUMBER AND June 24, 2024].
| 39A Leningradskoe Highway, Business Center Olimpiya Park, Building 2, Moscow, 125212, Russia.
* * * * * * *
| OOO Kaspersky Group, a.k.a., the following eight aliases: —Kaspersky Group; —Kaspersky Group Limited; —Kaspersky Group Limited Liability Company; —Kaspersky Group LLC; —Kaspersky Group Ltd; —Obshchestvo S Ogranichennoi Otvetstvennostyu Gruppa Kompanii Kasperskogo; —OOO Gruppa Kompanii Kasperskogo; and —OOO Kaspersky Group of Companies. | For all items subject to the EAR (See § 744.11 of the EAR) | Presumption of denial | 89 FR [INSERT FR PAGE NUMBER AND June 24, 2024].
| 39A Leningradskoe Highway, Business Center Olimpiya Park, Building 2, Moscow, 125212, Russia.
| * * * * * *
UNITED KINGDOM | * * * * * *
| Kaspersky Labs Limited, a.k.a., the following two aliases: —Kaspersky Labs; and —Kaspersky Labs Ltd. | For all items subject to the EAR (See § 744.11 of the EAR) | Presumption of denial | 89 FR [INSERT FR PAGE NUMBER AND June 24, 2024].
| 2 Kingdom Street, Paddington Basin, London, England, W2 6BD, United Kingdom.
| * * * * * *

* * * * *

Eric Longnecker,
Deputy Assistant Secretary for Technology Security.

[FR Doc. 2024-13695 Filed 6-20-24; 4:15 pm]

BILLING CODE 3510-33-P